DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by December 18, 2003.

Title, Form, and OMB Number: Application Forms, Naval Reserve Officers Training Corps Scholarship Program; OMB Number 0703-0026.

Type of Request: Reinstatement.

Number of Respondents: 14,000.

Responses Per Respondent: 1.

Annual Responses: 14,000.

Average Burden Per Response: 4 hours.

Annual Burden Hours: 56,000.

Needs and Uses: This collection of information is used to make a determination of an applicant's academic and/or leadership potential and eligibility for a Naval Reserve Officers Training Corps (NROTC) scholarship. The information collected is used to select the best-qualified candidates.

Affected Public: Individuals or Households.

Frequency: On Occasion.

Respondent's Obligation: Required to Obtain or Retain Benefits.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Ms. Jacqueline Davis.

Written requests for copies of the information collection proposal should be sent to Ms. Davis, WHS/DIOR, 1215 Jefferson Davis Highway, Suite 1204, Arlington, VA 22202-4302.

Dated: November 7, 2003.
Patricia L. Toppings,
Alternate OSD Federal Register Liaison Officer, Department of Defense.

[FR Doc. 03-28693 Filed 11-17-03; 8:45 am]

BILLING CODE 5001-06-M